DEPARTMENT OF ENERGY

Federal Energy Regulatory Commission

Combined Notice of Filings

Take notice that the Commission has received the following Natural Gas Pipeline Rate and Refund Report filings:

Docket Numbers: RP11-2023-000.

Applicants: Transcontinental Gas Pipe Line Company, LLC.

Description: Transcontinental Gas Pipe Line Company, LLC submits tariff filing per 154.403: Annual Adjustment to Rate Schedule SS-2 Storage Gas Balances to be effective 5/1/2011.

Filed Date: 04/21/2011.

Accession Number: 20110421-5075.

Comment Date: 5 p.m. Eastern Time on Tuesday, May 03, 2011.

Docket Numbers: RP11-2024-000.

Applicants: Cheyenne Plains Gas Pipeline Company, L.L.C.

Description: Cheyenne Plains Gas Pipeline Company, L.L.C. submits tariff filing per 154.204: Pro Forma Update to be effective 6/1/2011.

Filed Date: 04/21/2011.

Accession Number: 20110421-5156.

Comment Date: 5 p.m. Eastern Time on Tuesday, May 03, 2011.

Docket Numbers: RP11-2025-000.

Applicants: Golden Pass Pipeline LLC.

Description: Petition of Golden Pass Pipeline LLC for Limited Waiver of Tariff.

Filed Date: 04/22/2011.

Accession Number: 20110422-5120.

Comment Date: 5 p.m. Eastern Time on Wednesday, May 04, 2011.

Docket Numbers: RP11-2026-000.

Applicants: Gulf South Pipeline Company, LP.

Description: Gulf South Pipeline Company, LP submits tariff filing per 154.204: Oneok to BG Energy 38624 Capacity Release Negotiated Rate Filing to be effective. 5/1/2011.

Filed Date: 04/25/2011.

Accession Number: 20110425-5104.

Comment Date: 5 p.m. Eastern Time on Monday, May 09, 2011.

Docket Numbers: RP11-2027-000.

Applicants: Blue Lake Gas Storage Company.

Description: Blue Lake Gas Storage Company submits tariff filing per 154.203: Operational Purchases and Sales Report 2010 to be effective N/A.

Filed Date: 04/25/2011.

Accession Number: 20110425-5179.

Comment Date: 5 p.m. Eastern Time on Monday, May 09, 2011.

Docket Numbers: RP11-2028-000.

Applicants: Transcontinental Gas Pipe Line Company, LLC.

Description: Transcontinental Gas Pipe Line Company, LLC submits tariff filing per 154.203: Revised Rate Schedule WSS-Open Access to be effective 5/1/2011.

Filed Date: 04/26/2011.

Accession Number: 20110426-5041.

Comment Date: 5 p.m. Eastern Time on Monday, May 09, 2011.

Docket Numbers: RP11-2029-000.

Applicants: Columbia Gas Transmission, LLC.

Description: Columbia Gas Transmission, LLC submits tariff filing per 154.204: Negotiated Rate Service Agreement—ODEC to be effective 5/1/2011.

Filed Date: 04/26/2011.

Accession Number: 20110426-5042.

Comment Date: 5 p.m. Eastern Time on Monday, May 09, 2011.

Docket Numbers: RP11-2030-000.

Applicants: Trailblazer Pipeline Company LLC.

Description: Penalty Revenue Crediting Report of Trailblazer Pipeline Company LLC.

Filed Date: 04/26/2011.

Accession Number: 20110426-5049.

Comment Date: 5 p.m. Eastern Time on Monday, May 09, 2011.

Docket Numbers: RP11-2031-000.

Applicants: Kern River Gas Transmission Company.

Description: Kern River Gas Transmission Company submits tariff filing per 154.204: 2011 Transition Procedures to be effective 5/27/2011.

Filed Date: 04/26/2011.

Accession Number: 20110426-5135.

Comment Date: 5 p.m. Eastern Time on Monday, May 09, 2011.

Docket Numbers: RP11-2032-000.

Applicants: Northern Border Pipeline Company.

Description: Northern Border Pipeline Company submits tariff filing per 154.203: Operational Purchases and Sales Report 2010 to be effective N/A.

Filed Date: 04/26/2011.

Accession Number: 20110426-5139.

Comment Date: 5 p.m. Eastern Time on Monday, May 09, 2011.

Docket Numbers: RP11-2033-000.

Applicants: ANR Storage Company.

Description: ANR Storage Company submits tariff filing per 154.203: Operational Purchases and Sales Report 2010 to be effective N/A.

Filed Date: 04/26/2011.

Accession Number: 20110426-5142.

Comment Date: 5 p.m. Eastern Time on Monday, May 09, 2011.

Docket Numbers: RP11-2034-000.

Applicants: Great Lakes Gas Transmission Limited Partnership.

Description: Great Lakes Gas Transmission Limited Partnership submits tariff filing per 154.203: Operational Purchases and Sales Report 2010 to be effective N/A..

Filed Date: 04/26/2011.

Accession Number: 20110426-5146.

Comment Date: 5 p.m. Eastern Time on Monday, May 09, 2011.

Docket Numbers: RP11-2035-000.

Applicants: Kinder Morgan Interstate Gas Transmission LLC.

Description: Kinder Morgan Interstate Gas Transmission LLC submits tariff filing per 154.204: Negotiated Rate 2011-04-26 Mieco A&R to be effective 4/27/2011.

Filed Date: 04/26/2011.

Accession Number: 20110426-5182.

Comment Date: 5 p.m. Eastern Time on Monday, May 09, 2011.

Docket Numbers: RP11-2036-000.

Applicants: Natural Gas Pipeline Company of America LLC.

Description: Natural Gas Pipeline Company of America LLC submits tariff filing per 154.204: Wisconsin Electric's Negotiated Rate Agreements to be effective 4/26/2011.

Filed Date: 04/26/2011.

Accession Number: 20110426-5183

Comment Date: 5 p.m. Eastern Time on Monday, May 09, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 27, 2011.
Nathaniel J. Davis, Sr.,
Deputy Secretary.

[FR Doc. 2011-10822 Filed 5-3-11; 8:45 am]

BILLING CODE 6717-01-P